DEPARTMENT OF THE TREASURY

Submission for OMB Review; Comment Request

August 24, 2011.

The Department of the Treasury will submit the following public information collection requirement to OMB for review and clearance under the Paperwork Reduction Act of 1995, Public Law 104-13 on or after the date of publication of this notice. A copy of the submission may be obtained by contacting the Treasury Departmental Office Clearance Officer listed. Comments regarding this information collection should be addressed to the OMB reviewer listed and to the Treasury PRA Clearance Officer, Department of the Treasury, 1750 Pennsylvania Avenue, NW., Suite 11010, Washington, DC 20220.

DATES: Written comments should be received on or before September 29, 2011 to be assured of consideration.

Office of Foreign Assets Control (OFAC)

OMB Number: 1505-0198.

Type of Review: Extension without change of a currently approved collection.

Title: Requirement to Report Information About the Shipment of Rough Diamonds.

Abstract: The information collection is needed to monitor the integrity of international rough diamond shipments.

Respondents: Private Sector: Businesses or other for-profits.

Estimated Total Annual Burden Hours: 1,750.

Departmental Office Clearance Officer: James Earl, DO/Office of Foreign Assets Control, 1500 Pennsylvania Ave., NW., Rm. 5205, Washington, DC 20220; (202) 622-1947

OMB Reviewer: Shagufta Ahmed, Office of Management and Budget, New Executive Office Building, Room 10235, Washington, DC 20503; (202) 395-7873.

Dawn D. Wolfgang,
Treasury PRA Clearance Officer.

[FR Doc. 2011-22061 Filed 8-29-11; 8:45 am]

BILLING CODE 4810-25-P